ENVIRONMENTAL PROTECTION AGENCY

[FRL-7429-8]

Draft Exposure and Human Health Evaluation of Airborne Pollution From the World Trade Center Disaster and Final Toxicological Effects of Fine Particle Matter Derived From the Destruction of the World Trade Center

AGENCY: Environmental Protection Agency.

ACTION: Notice of availability of a draft document for public review and comment, and notice of availability of a final document.

SUMMARY: The U.S. Environmental Protection Agency's (EPA) Office of Research and Development (ORD) is announcing a 60-day public comment period for the external review draft (ERD) entitled, “Exposure and Human Health Evaluation of Airborne Pollution from the World Trade Center Disaster (EPA/600/P-02/002A, October 2002).” This draft document was prepared by ORD's National Center for Environmental Assessment (NCEA). ORD also is announcing the public availability of a final report entitled, “Toxicological Effects of Fine Particle Matter Derived from the Destruction of the World Trade Center (EPA/600/R-02/028, June 2002),” hereafter, rodent respiratory toxicological report. This final report was prepared by ORD's National Health and Environmental Effects Research Laboratory (NHEERL).

DATES: The 60-day public comment period on the ERD begins December 27, 2002, and ends February 25, 2003. Technical comments should be in writing and must be postmarked by February 25, 2003. The final rodent respiratory toxicological report is available today.

ADDRESSES: The primary distribution method for the ERD will be via ORD's web site at http://www.epa.gov/ncea/wtc.htm. This draft report, in PDF format, can be viewed and downloaded from the Internet for review and comment. In addition, a limited number of CD-ROM and paper copies of the ERD are available by contacting the Technical Information Staff, NCEA-W (8623D), U.S. Environmental Protection Agency, Washington, DC 20460; telephone: 202-564-3261; facsimile: 202-565-0050; email: nceadc.comment@epa.gov. Please provide your name, mailing address, and the title and EPA number of the requested publication.

The rodent respiratory toxicological report is also available via ORD's web site at http://www.epa.gov/nheerl. A limited number of paper copies are available from EPA's National Service Center for Environmental Publications (NSCEP). To obtain copies, please contact NSCEP by telephone: 1-800-490-9198 or 513-489-8190; facsimile: 513-489-8695, by mail: P.O. Box 42419, Cincinnati, OH 45242-0419. Please provide your name and mailing address and the title and EPA number of the document requested.

COMMENT SUBMISSION: Comments on the ERD may be mailed to the Technical Information Staff, NCEA-W (8623D), U.S. Environmental Protection Agency, Washington, DC 20460; telephone: 202-564-3261; facsimile: 202-565-0050. Comments should be in writing. Please submit one unbound original with pages numbered consecutively, and three copies of the comments. For attachments, provide an index, number pages consecutively with the comments, and submit an unbound original and three copies. Electronic comments may be emailed to: nceadc.comment@epa.gov.

Please note that all technical comments received in response to this notice will be placed in a public record. For that reason, commentors should not submit personal information (such as medical data or home address), Confidential Business Information, or information protected by copyright. Due to limited resources, acknowledgments will not be sent.

FOR FURTHER INFORMATION CONTACT: For information on the public comment period, contact the Technical Information Staff of the National Center for Environmental Assessment-Washington by telephone: 202-564-3261; facsimile: 202-565-0050; email: nceadc.comment@epa.gov.

SUPPLEMENTARY INFORMATION: Immediately following the September 11, 2001, terrorist attack on New York City's World Trade Center, many federal agencies, including the EPA, were called upon to focus their technical and scientific expertise on the national emergency issues. EPA, other federal agencies, New York City, and New York State public health and environmental authorities focused on numerous air monitoring activities to better understand the ongoing human health impact of the disaster. Many EPA offices and programs quickly became involved with these activities, providing scientific, engineering, public health, and management expertise to help cope with the aftereffects of the collapse of the World Trade Center.

As part of these activities, a human health evaluation of exposure to air pollutants resulting from the World Trade Center disaster was initiated. The primary purpose and scope of this draft report were to evaluate the environmental levels of various air pollutants to which the public could potentially be exposed as a result of the collapse of the towers. The draft report evaluates the measured outdoor levels of various air pollutants to which the public potentially had been exposed. These data were evaluated in terms of available health benchmark concentrations and typical background concentrations for New York City or other urban areas. The draft evaluation concludes that, with the exception of those exposed immediately following the collapse and perhaps during the next few days, people in the surrounding community are not likely to suffer from serious long- or short-term health effects.

While the primary focus of EPA's draft evaluation is on outdoor levels of various air pollutants to which the public could potentially be exposed as a result of the collapse of the towers, some information on indoor and occupational exposures is summarized in EPA's draft report. The incursion of dust and other contaminants into residences and buildings is being addressed via a number of other studies initiated in conjunction with the plans by EPA and its federal, state, and city partners to clean up residences impacted by the collapse of the World Trade Center.

The draft report also includes a discussion of rodent respiratory toxicology studies, conducted by EPA scientists, that exposed mice to fallen dust samples collected at or near Ground Zero on September 12 and 13, 2001. The purpose of these studies was to evaluate the toxicity of fine particulate matter dust on the respiratory tract of mice and to compare well-studied particulate matter reference samples, ranging from essentially inert to quite toxic, to those collected at the World Trade Center site. These studies found that fine particles were dominated by calcium containing compounds derived from World Trade Center building materials, and that a high exposure to World Trade Center fine particulate matter could cause mild lung inflammation and airflow obstruction in mice. These findings suggest that a similarly high exposure in people could cause short-term respiratory effects such as inflammation and cough.

Further, it is important to note that while this ERD is undergoing public review and comment, a process of external independent expert scientific peer review also is underway. These review processes are the usual steps that EPA takes to ensure full and open participation by interested parties. These steps also help EPA identify areas where a draft document could be improved to strengthen both clarity and completeness of the draft. Comments from the public and from the expert peer reviewers will be used to improve the draft report before it is finalized.

Finally, EPA scientists, in collaboration with other federal and state environmental health professionals, as well as colleagues in academia and medical institutions, will continue to analyze available data on human exposures to environmental contaminants resulting from the World Trade Center disaster. This continuing work will help us to better understand the potential human health impacts.

Dated: December 20, 2002.
Paul Gilman,
Assistant Administrator, Office of Research and Development.

[FR Doc. 02-32600 Filed 12-26-02; 8:45 am]

BILLING CODE 6560-50-P